DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action by Trade Adjustment Assistance for Period November 23, 2002-December 19, 2002
Firm Name | Address | Date petition accepted | Product
Amak River Legacy, Inc. | P.O. Box 1020 Rochester, WA 98579 | 11/27/02 | Salmon.
Waytec Electronics Corporation | 1104 Mc Conville Road Lynchburg, VA 24506 | 11/27/02 | Printed circuit boards.
Nifty-Bar, Inc. | 450 Whitney Road, West Penfield, NY 14526 | 10/10/02 | Flat rolled carbon and stainless steel.
Gilbert Mold & Die, Inc. | 6424 Highway 43 South Harrison, AR 72601 | 12/10/02 | Plastic molds and dies.
Woodbine Alaska Fish Company | P.O. Box 757 Rio Vista, CA 94571 | 12/10/02 | Salmon.
Dennis F. Shangin dba F/V Miranda Leigh | P.O. Box 3104 Soldotna, AK 99669 | 12/11/02 | Salmon.
Spiel Associates, Inc. | 45-01 Northern Boulevard Long Island City, NY 11101 | 12/12/02 | Book binding machinery.
Quick Point, Inc. | 1717 Fenpark Drive Fenton, MO 63026 | 12/17/02 | Plastic drinkware and golf towels.
Craftique, Inc. | 1257 West Center Street Mebane, NC | 12/17/02 | Wooden bedroom, dining room and accent furniture.
Advance Screw Products Corporation | 8 Deep Rock Road Rochester, NY 14624 | 12/17/02 | Metal shafts for photocopying apparatus.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: January 2, 2003.
Anthony J. Meyer,
Coordinator, Trade Adjustment and Technical Assistance.

[FR Doc. 03-569 Filed 1-10-03; 8:45 am]

BILLING CODE 3510-24-P